DEPARTMENT OF TRANSPORTATION

Federal Aviation Administration

14 CFR Part 71

[Docket FAA 2005-23157; Airspace Docket 05-ANM-15]

RIN 2120-AA66

Proposed Amendment to Class E Airspace; Kalispell, MT

AGENCY: Federal Aviation Administration (FAA), DOT.

ACTION: Notice of proosed rulemaking (NPRM).

SUMMARY: This action proposes to revise Class E surface airspace at Kalispell, MT. This action is necessary for the safety of Instrument Flight Rules (FR) aircraft executing Instrument Landing System (ILS) approach procedures to the newly extended runway at Kalispell/Glacier Park International Airport, Kalispell, MT.

DATES: Comments must be received on or before May 15, 2006.

ADDRESSES: Send comments on this proposal to the Docket Management System, U.S. Department of Transportation, Room Plaza 401, 400 Seventh Street, SW., Washington, DC 20590-0001. You must identify FAA Docket No. FAA-2005-23157 and Airspace Docket No. 05-ANM-15, at the beginning of your comments. You may also submit comments through the Internet at http://dms.dot.gov.

FOR FURTHER INFORMATION CONTACT: Ed Haeseker, Federal Aviation Administration, Western En Route and Oceanic Area Office, Airspace Branch, 1601 Lind Avenue, SW., Renton, WA 98055-4056; telephone (425) 227-2527.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. 2005-23157 and Airspace Docket No. 05-ANM-15) and be submitted in triplicate to the Docket Management System (See ADDRESSES section for address and phone number). You may also submit comments through the Internet at http://dms.got.gov.

Commenters wishing to FAA to acknowledge receipt of their comments on this action must submit, with those comments, a self-addressed, stamped postcard on which the following statement is made: “Comments to FAA Docket No. 2005-23157 and Airspace Docket No. 05-ANM-15.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, Western En Route and Oceanic Area Office, Airspace Branch, 1601 Lind Avenue, SW., Renton, WA 98055.

Persons interested in being placed on a mailing list for future NPRMs should contact the FAA's Office of Rulemaking, (202) 267-9677, for a copy of Advisory Circular No. 11-2A, Notice of proposed Rulemaking Distribution System, which describes the application procedures.

The Proposal

The FAA is proposing an amendment to Title 14 Code of Federal Regulations (14 CFR) part 71 by revising the Class E surface airspace area at Kalispell, MT. The runway was recently extended at Kalispell/Glacier International Airport. Since the runway threshold was relocated, this created a requirement for additional surface airspace to accommodate aircraft arriving via the redesigned ILS approach procedure. This action is necessary for the safety of IFR aircraft executing ILS approach procedures at Kalispell/Glacier International Airport, Kalispell, MT.

Class E airspace designations are published in paragraph 6000 of FAA Order 7400.9N, Airspace Designations and Reporting Points, dated September 1, 2005, and effective September 15, 2005, which is incorporated by reference in 14 CFR 71.1. The Class E airspace designation listed in this document would be published subsequently in the order.

The FAA has determined that this proposed regulation only involves an established body of technical regulations for which frequent and routine amendments are necessary to keep them operationally current. Therefore, this proposed regulation: (1) Is not a “significant regulatory action” under Executive Order 12866: (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the FAA Order 7400.9N, Airspace Designations and Reporting Points, dated September 1, 2005, and effective September 15, 2005, is amended as follows:

Paragraph 6002—Class E Airspace

ANM MT E Kalispell, MT [Revised]

Kalispell/Glacier Park International Airport, MT

(Lat. 48°18′38″ N., long. 114°15′22″ W.)

Smith Lake NDB

(Lat. 48°06′30″ N., long. 114°27′40″ W.)

Within a 4.3-mile radius of the Kalispell/Glacier Park International Airport, and within 1.8 miles each side of the 17°(M) 035°(T) bearing from the Smith Lake NDB extending southwest from the 4.3-mile radius to the Smith Lake NBD.

* * * * *

Issued in Seattle, Washington, on March 9, 2006.
R.D. Engelke,
Acting Area Director, Western En Route and Oceanic Operations.

[FR Doc. 06-3111 Filed 3-30-06; 8:45 am]

BILLING CODE 4910-13-M